AGENCY FOR INTERNATIONAL DEVELOPMENT

Notice of Public Information Collections Being Reviewed by the U.S. Agency for International Development; Comments Requested

SUMMARY: U.S. Agency for International Development (USAID) is making efforts to reduce the paperwork burden. USAID invites the general public and other Federal agencies to take this opportunity to comment on the following proposed and/or continuing information collections, as required by the Paperwork Reduction Act for 1995. Comments are requested concerning: (a) Whether the proposed or continuing collections of information are necessary for the proper performance of the functions of the agency, including whether the information shall have practical utility; (b) the accuracy of the burden estimates; (c) ways to enhance the quality, utility, and clarity of the information collected; and (d) ways to minimize the burden of the collection of information on the respondents, including the use of automated collection techniques or other forms of information technology.

DATES: Submit comments on or before March 8, 2010.

ADDRESSES: Send comments via e-mail at tHembry@usaid.gov mail comments to: Tracy Hembry, Small Disadvantage Business Specialist, United States Agency for International Development, Ronald Reagan Building, 1300 Pennsylvania Avenue, NW., Washington, DC 20523 (202-712-4983).

FOR FURTHER INFORMATION CONTACT: Beverly Johnson, Bureau for Management, Office of Administrative Services, Information and Records Division, U.S. Agency for International Development, Room 2.07-106, RRB, Washington, DC, 20523, (202) 712-1365 or via e-mail bjohnson@usaid.gov.

SUPPLEMENTARY INFORMATION: OMB No.: OMB 0412-0574.

Form No.: AID 321-1.

Title: Mentor-Protégé Program Application.

Type of Review: Revision to Information Collection.

Purpose: Entities interested in participating in the U.S. Agency for International Development's (USAID) Mentor-Protégé Program must apply in writing to the USAID Office of Small and Disadvantaged Business Utilization (OSDBU) by submitting the application form. The application will contain the Mentor-Protégé Agreement and will be evaluated for approval. Evaluations will consider the nature and extent of technical and managerial support as well as any proposed financial assistance in the form of equity investment, loans, joint-venture, and traditional subcontracting support. USAID's current policy on the Mentor-Protégé Program can be found in the AIDAR 719.273.

Annual Reporting Burden:

Respondents: 30.

Total Annual Responses: 30.

Total Annual Hours Requested: 360.

Dated: December 29, 2009.
Cynthia Staples,
Acting Chief, Information and Records Division, Office of Administrative Services, Bureau for Management.

[FR Doc. E9-31398 Filed 1-6-10; 8:45 am]

BILLING CODE 6116-01-M